DEPARTMENT OF AGRICULTURE

Forest Service

Information Collection: Youth Conservation Corps Application and Medical History

AGENCY: Forest Service, USDA.

ACTION: Notice; request for comment.

SUMMARY: In accordance with the Paperwork Reduction Act of 1995, the Forest Service, U.S. Department of Agriculture; the Fish and Wildlife Service and National Park Service, U.S. Department of Interior are seeking comments from all interested individuals and organizations on the extension with revision of a currently approved information collection, Youth Conservation Corps Application and Medical History.

DATES: Comments must be received in writing on or before July 25, 2016 to be assured of consideration. Comments received after that date will be considered to the extent practicable.

ADDRESSES: Comments concerning this notice should be addressed to Volunteers & Service Program Manager, USDA Forest Service, Recreation, Heritage, and Volunteer Resources, 201 14th Street NW., Mailstop 1125, Washington, DC 20024.

Comments also may be submitted via facsimile to 202-205-1145 or by email to: mmazyck@fs.fed.us.

The public may inspect comments received at USDA Forest Service, Washington Office, Sidney R. Yates Building during normal business hours. Visitors are encouraged to call ahead to 202-205-0650 to facilitate entry to the building.

FOR FURTHER INFORMATION CONTACT: Merlene Mazyck, Recreation, Heritage and Volunteer Resources staff, at 202-205-0650.

Individuals who use telecommunication devices for the deaf (TDD) may call the Federal Relay Service (FRS) at 1-800-877-8339 between 8:00 a.m. and 8:00 p.m., Eastern Standard Time, Monday through Friday.

SUPPLEMENTARY INFORMATION:

Title: Youth Conservation Corps Application and Medical History.

OMB Number: 0596-0084.

Expiration Date of Approval: 07/31/2016.

Type of Request: Extension with revision.

Abstract: Under the Youth Conservation Corps Act of August 13, 1970, as amended (U.S. 18701-1706), the Forest Service, U.S. Department of Agriculture; the Fish and Wildlife Service, and National Park Service, U.S. Department of Interior cooperate to provide seasonal employment for eligible youth 15 through 18 years old. The Youth Conservation Corps achieves three important objectives:

1. Accomplish needed conservation work on public lands;

2. Provide gainful employment for 15 to 18 year old male and females from all social, economic, ethnic and racial backgrounds; and

3. Foster, on the part of the 15 through 18 year old youth, an understanding and appreciation of the Nation's natural resources and heritage.

Youths seeking training and employment with the Youth Conservation Corps must complete the following form: FS-1800-18 Youth Conservation Corps Application. Youths who are selected for training and employment must also complete the FS-1800-3 Youth Conservation Corps Medical History. The applicant's parent or guardian must sign both forms. The application and medical history form are evaluated by participating agencies to determine the eligibility of each youth for employment with the Youth Conservation Corps.

FS-1800-18, Youth Conservation Corps (YCC) Application: Applicants are asked to answer questions that include their name, social security number, date of birth, age, mailing address, telephone numbers, email address, gender, educational background, desired work location, where they learned about the program, why they want to enroll in a YCC program, and whether they have worked with a group or team before and what they learned from that experience.

FS-1800-3, Youth Conservation Corps Medical History: Accepted applicants are asked to provide contact information, age and date of birth, gender, emergency contact information, parent or guardian's contact information and signature, medical insurance information, medical history including immunization history, and previous and current illnesses or conditions that may affect ability to perform certain tasks.

The purpose of this form is to certify the youth's physical fitness to work in the seasonal employment program.

Application

Estimate of Annual Burden: 23 minutes per form per respondent.

Type of Respondents: Youth 15 through 18 years old seeking seasonal employment with the above-named agencies, through the YCC program.

Estimated Annual Number of Respondents: 8,500.

Estimated Annual Number of Responses per Respondent: 1.

Estimated Total Annual Burden on Respondents: 3,255 hours.

Medical History Form

Estimate of Annual Burden: 23 minutes per form per respondent.

Type of Respondents: Youth 15 through 18 years old whom have been selected for employment with the above-named agencies, through the YCC program.

Estimated Annual Number of Respondents: 2,909.

Estimated Annual Number of Responses per Respondent: 1.

Estimated Total Annual Burden on Respondents: 1,105 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 19, 2016.
Leslie A.C. Weldon,
Deputy Chief, National Forest Systems.

[FR Doc. 2016-12314 Filed 5-24-16; 8:45 am]

BILLING CODE 3411-15-P